DEPARTMENT OF ENERGY

Federal Energy Regulatory Commission

Supplemental Notice

| Docket Nos.
Filing Requirements for El. Utility S.A | RM01-8-000
Electricity Market Transparency Provisions of Section 220 of the Federal Power Act | RM10-12-000
Revisions to Electric Quarterly Report Filing Process | RM12-3-000
Revised Public Utility Filing Requirements for Electric Quarterly Reports | ER02-2001-000

Take notice that on December 20, 2013, the Commission issued a notice of technical conference on the Revisions to Electric Quarterly Report (EQR) Filing Process. The conference will take place on Wednesday, January 22, 2014 from 10:00 a.m. to 1:00 p.m. (EST), in the Commission Meeting Room at 888 First Street NE., Washington, DC 20426. The public may attend.

This supplemental notice is to clarify logistics for this event. Participants, either attending in person or on the webcast, are encouraged to preregister at https://www.ferc.gov/whats-new/registration/eqr-01-22-14-form.asp. There will be no teleconference available as mentioned in the initial notice. However, webcasting provides audio service and is archived. Participants may submit questions before or during the event via email to: eqr@ferc.gov. Please specify “EQR Questions for Jan 22 Conference” in the subject line or your emails.

This meeting/conference will be transcribed. Transcripts of the meeting/conference will be immediately available for a fee from Ace-Federal Reporters, Inc. (202-347-3700 or 1-800-336-6646). A free webcast of the meeting/conference is also available through www.ferc.gov. Anyone with Internet access who desires to listen to this event can do so by navigating to www.ferc.gov's Calendar of Events and locating this event in the Calendar. The event will contain a link to its webcast. The Capitol Connection provides technical support for the webcasts and offers the option of listening to the meeting via phone-bridge for a fee. If you have any questions, visit www.CapitolConnection.org or call 703-993-3100.

Any additional information regarding the agenda for the technical conference will be posted prior to the conference on the Calendar of Events on the Commission's Web site, www.ferc.gov.

Commission conferences are accessible under section 508 of the Rehabilitation Act of 1973. For accessibility accommodations, please send an email to accessibility@ferc.gov or call toll free 1-866-208-3372 (voice) or 202-208-1659 (TTY), or send a FAX to 202-208-2106 with the required accommodations.

For more information about the technical conference, please contact:

Sarah McKinley, Federal Energy Regulatory Commission, 888 First Street NE., Washington, DC 20426, (202) 502-8368, sarah.mckinley@ferc.gov.

Dated: January 16, 2014.
Kimberly D. Bose,
Secretary.

[FR Doc. 2014-01336 Filed 1-23-14; 8:45 am]

BILLING CODE 6717-01-P